DEPARTMENT OF DEFENSE

Office of the Secretary

[Docket No. DOD-2010-DARS-0115]

Submission for OMB review; Comment Request

ACTION: Notice.

The Department of Defense has submitted to OMB for clearance, the following proposal for collection of information under the provisions of the Paperwork Reduction Act (44 U.S.C. Chapter 35).

DATES: Consideration will be given to all comments received by September 24, 2010.

Title, Associated Forms and OMB Number: Defense Federal Acquisition Regulation Supplement (DFARS) Appendix I, DoD Pilot Mentor-Protege Program; OMB Control Number 0704-0332.

Type of Request: Extension.

Number of Respondents: 190.

Responses per Respondent: 1.96.

Annual Responses: 372.

Average Burden per Response: 1 hour.

Total Record Keeping Hours: 589 hours.

Annual Burden Hours: 961 hours.

Needs and Uses: DoD needs this information to evaluate whether the purposes of the DoD Pilot Mentor-Protege Program have been met. The purposes of the Program are to (1) Provide incentives to major DoD contractors to assist protege firms in enhancing their capabilities to satisfy contract and subcontract requirements; (2) increase the overall participation of protege firms as subcontractors and suppliers; and (3) foster the establishment of long-term business relationships between protege firms and major DoD contractors. This Program implements section 831 of the National Defense Authorization Act for Fiscal Year 1991 (Pub. L. 101-510) and section 811 of the National Defense Authorization Act for Fiscal Year 2000 (Pub. L. 106-65) (10 U.S.C. 2302 note). Participation in the Program is voluntary.

Affected Public: Business or other for-profit; not-for-profit institutions.

Frequency: Semiannually (mentor); Annually (protege).

Respondent's Obligation: Required to obtain or retain benefits.

OMB Desk Officer: Ms. Jasmeet Seehra.

Written comments and recommendations on the proposed information collection should be sent to Ms. Seehra at the Office of Management and Budget, Desk Officer for DoD, Room 10236, New Executive Office Building, Washington, DC 20503.

You may also submit comments, identified by docket number and title, by the following method:

• Federal eRulemaking Portal: http://www.regulations.gov. Follow the instructions for submitting comments.

Instructions: All submissions received must include the agency name, docket number and title for this Federal Register document. The general policy for comments and other submissions from members of the public is to make these submissions available for public viewing on the Internet at http://www.regulations.gov as they are received without change, including any personal identifiers or contact information.

DOD Clearance Officer: Ms. Patricia Toppings.

Written requests for copies of the information collection proposal should be sent to Ms. Toppings at WHS/ESD/Information Management Division, 1777 North Kent Street, RPN, Suite 11000, Arlington, VA 22209-2133.

Dated: July 26, 2010.
Patricia L. Toppings,
OSD Federal Register, Liaison Officer, Department of Defense.

[FR Doc. 2010-21106 Filed 8-24-10; 8:45 am]

BILLING CODE 5001-06-P